ENVIRONMENTAL PROTECTION AGENCY

[EPA-R08-OW-2019-0404; FRL-11434-01-OMS]

Information Collection Request Submitted to OMB for Review and Approval; Comment Request; Filter Adoption Survey (Renewal)

AGENCY: Environmental Protection Agency (EPA).

ACTION: Notice.

SUMMARY: The Environmental Protection Agency (EPA) has submitted an information collection request (ICR), Filter Adoption Survey (EPA ICR Number 2615.02, OMB Control Numer 2008-0003) to the Office of Management and Budget (OMB) for review and approval in accordance with the Paperwork Reduction Act. This is a proposed extension of the ICR, which is currently approved through September 30, 2023. Public comments were previously requested via the Federal Register on February 17, 2023 during a 60-day comment period. This notice allows for an additional 30 days for public comments.

DATES: Comments may be submitted on or before October 30, 2023.

ADDRESSES: Submit your comments, referencing Docket ID Number EPA-R08-OW-2019-0404, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Robert Parker, Supervisor, Drinking Water Section A, Water Division, 8WD-DWA, Environmental Protection Agency Region 8, 1595 Wynkoop Street, Denver Colorado 80202-1129; telephone number 303-312-6664; email address: parker.robert@epa.gov.

SUPPLEMENTARY INFORMATION: This is a proposed extension of the ICR, which is currently approved through September 30, 2023. An agency may not conduct or sponsor and a person is not required to respond to a collection of information unless it displays a currently valid OMB control number.

Public comments were previously requested via the Federal Register on February 17, 2023 during a 60-day comment period (88 FR 10325). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Denver Water is a public water system that must comply with applicable requirements of the Lead and Copper Rule (LCR). On September 6, 2019, Denver Water submitted a request to EPA Region 8 for a variance from the optimal corrosion control treatment requirements under the Safe Drinking Water Act's LCR. The request proposed a multi-pronged approach to remove lead at least as efficiently as the use of orthophosphate (the designated optimal corrosion control treatment) by employing pH and alkalinity adjustments to reduce corrosivity of the water, accelerated lead service line removal, and a filter program in which Denver Water would distribute pitcher filters to consumers that have a known, suspected, or possible lead service line. Under section 1415(a)(3) of the Safe Drinking Water Act, on December 16, 2019, the U.S. EPA granted Denver Water a variance (2019 Variance) from the definition of “optimal corrosion control treatment” in 40 CFR 141.2. The 2019 Variance contained requirements to determine the efficacy of the filter program and a survey program was established to produce information to support that determination. That collection was approved under EPA ICR #2615.01.

On November 30, 2022, EPA issued a new variance to replace the expiring 2019 variance. Denver Water, EPA and CDPHE agreed that beginning in 2025, a survey conducted every two years (rather than annually) would be sufficient to determine the efficacy of the filter program. EPA will use the 2025 survey results that Denver Water collects to determine the consumer filter adoption rate and to confirm that customers are using and maintaining the filters per manufacturer's instructions. Every second year, the filter adoption survey will be sent by Denver Water via postal mail to approximately 20,000 of an estimated 119,250 individual homes that have received a pitcher filter through Denver Water's filter distribution program. Surveys will be sent via direct mail and will include an online completion option. Direct mailings will be sent with a unique QR code to track which addresses responses have been received from. Surveys will be sent out in both English and Spanish.

Furthermore, Denver Water must collect samples from filters in at least 50 locations in use by customers enrolled in the filter program who are also enrolled in Denver Water's LCR compliance tap sampling program. During the LCR compliance tap sampling visit, Denver Water will collect additional information on whether the filter is properly used and maintained, including but not limited to: whether the filter cartridge is properly installed and changed on time; whether the filter is being used for drinking, cooking, or infant formula; and whether the filter is being used per manufacturer's instructions.

Form Numbers: 6700-009.

Respondents/affected entities: Households served by Denver Water that have a known, suspected, or possible lead service line or a galvanized line in need of replacing (per the 2022 Variance), and who have been distributed a pitcher filter through the filter distribution program.

Respondent's obligation to respond: Voluntary.

Estimated number of respondents: 2,000 (total).

Frequency of response: Once in 2025, then biennially.

Total estimated burden: 323 hours (per year). Burden is defined at 5 CFR 1320.03(b).

Total estimated cost: $22,111 (per year), which includes $667 annualized capital or operation & maintenance costs.

Changes in the Estimates: There is decrease of 947.34 hours per year in the total estimated respondent burden compared with the ICR currently approved by OMB. This decrease is a result of Denver Water reducing their estimates of per survey burden as well as the fact that only one survey will be conducted in this three-year period versus three in the period covered by the previous ICR.

Courtney Kerwin,
Director, Regulatory Support Division.

[FR Doc. 2023-21175 Filed 9-27-23; 8:45 am]

BILLING CODE 6560-50-P